DEPARTMENT OF TRANSPORTATION

Federal Highway Administration

Tier II Environmental Impact Statement: Boone County, Missouri

AGENCY: Federal Highway Administration (FHWA), DOT.

ACTION: Notice of Intent.

SUMMARY: The FHWA is issuing this notice to advise the public that a Tier II Environmental Impact Statement (EIS) will be prepared for proposed improvement to the I-70 highway corridor in Boone County, Missouri.

FOR FURTHER INFORMATION CONTACT: Peggy Casey, Environmental Projects Engineer, FHWA Division Office, 209 Adams Street, Jefferson City, MO 65101, Telephone: (573) 638-2620; or Mr. Dave Nichols, Director of Project Development, Missouri Department of Transportation, PO Box 270, Jefferson City, MO 65102, Telephone: (573) 751-4586.

SUPPLEMENTARY INFORMATION: The FHWA, in cooperation with the Missouri Department of Transportation (MoDOT), will prepare a Tier II EIS For a proposed project to improve I-70 in Boone County Missouri from Route BB (milepost 115), to Route Z (milepost 133) a distance of 18 miles. The project area includes the City of Columbia. In accordance with the National Environmental Policy Act, a Tier I EIS was completed for the I-70 corridor from Kansas City to St. Louis. The preferred alternative identified in the Tier I Final EIS and Record of Decision was to widen I-70.

The proposed action will accomplish the following goals: (1) Increase roadway capacity, (2) increase traffic safety, (3) upgrade roadway design features, and (4) improve the efficient movement of goods.

Alternatives under consideration include (1) no build, (2) improve existing I-70, and (3) an off alignment build alternative.

Information has been issued to local officials and other interested parties during the Tier I study. As part of the Tier I EIS scoping process, an interagency scoping meeting was held with federal and state agencies. Agency scoping and coordination with federal, state, and local agencies will continue. Public information meetings, and community official meetings will be held to solicit public and agency input to engage the regional community in the decision making process. A location public hearing will be held to present the findings of the Tier II Draft EIS (DEIS). The DEIS will be available for public and agency review and comment prior to the public hearing. A Department of the Army Section 404 permit may be required.

To ensure that the full range of issues related to this proposed action are addressed and all significant issues identified, comments and suggestions are invited from all interested parties. Comments or questions concerning this proposed action and the EIS should be directed to the FHWA or MoDOT at the addresss provided above.

(Catalog of Federal Domestic Assistance Program Number 20.205, Highway Planning and Construction. The regulations implementing Executive Order 12372 regarding intergovernmental consultation on Federal programs and activities apply to this program.)
Issued on: April 3, 2002.
Peggy J. Casey,
Environmental Projects Engineer, Jefferson City.

[FR Doc. 02-9584 Filed 4-18-02; 8:45 am]

BILLING CODE 4910-22-M